FEDERAL COMMUNICATIONS COMMISSION

[OMB 3060-0678; FR ID 228594]

Information Collection Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written PRA comments should be submitted on or before August 30, 2024. If you anticipate that you will be submitting comments but find it difficult to do so within the period of time allowed by this notice, you should advise the contact listed below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION:

OMB Control Number: 3060-0678.

Title: Part 25 of the Federal Communications Commission's Rules Governing the Licensing of, and Spectrum Usage by, Commercial Earth Stations and Space Stations.

FCC Form Number: FCC Form 312 (Main Form and Schedules A, B, and S), FCC Form 312-R.

Type of Review: Revision of a currently approved collection.

Respondents: Businesses or other for-profit entities, not-for-profit institutions.

Number of Respondents and Responses: 3,535 respondents and 3,587 responses.

Estimated Time per Response: 0.5-80 hours.

Frequency of Response: On occasion, one time and annual reporting requirements; third-party disclosure requirement; recordkeeping requirement.

Obligation to Respond: Required to obtain or retain benefits. Statutory authority for this information collection is contained in 47 U.S.C. 151, 154(i), 157, 301, 303, 307, 308, 309, and 310.

Total Annual Burden: 27,620 hours.

Total Annual Cost: $4,154,267.

Needs and Uses: The Commission requests that the Office of Management and Budget (OMB) approve a revision of the information collection titled “Part 25 of the Federal Communications Commission's Rules Governing the Licensing of, and Spectrum Usage by, Commercial Earth Stations and Space Stations” under OMB Control No. 3060-0678 as a result of a Report and Order (89 FR 34148) adopting a framework to offer supplemental coverage from space (SCS). SCS is a crucial component of the Commission's vision for a “single network future,” in which satellite and terrestrial networks work seamlessly together to provide coverage that neither network can achieve on its own, and will enable consumers in areas not covered by terrestrial networks to be connected using their existing devices via satellite-based communications. In order to ensure that prospective SCS operators will be able to comply with the applicable rules, that the public interest will be served by granting their applications, and that harmful interference will be avoided to the greatest extent possible thereafter, the Commission seeks approval to collect the following information to confirm that satellite service operators who seek to enter lease agreements with terrestrial service providers to offer supplemental coverage from space (SCS) do so in compliance with the rules that govern SCS operations.

Specifically, the Commission adopted requirements in its part 25 rules that parties who seek to provide SCS must submit a new or modified FCC Form 312 with the following certifications: that they have submitted a lease notification; that the space station licensee or grantee of market access will provide SCS in the geographic area covered by the licenses held by its terrestrial partner(s); and that SCS earth stations will qualify as licensed by rule stations under the Commission's part 25 rules. An applicants must also describe its SCS proposal in detail in its FCC Form 312 (Main Form and Schedule S), with a brief description of the coverage areas that will be served, domestically and internationally, and include a list of the file and identification numbers associated with the relevant leasing notification(s) under the Commission's part 1 rules.

This revised information collection is designed to allow Commission staff to carry out its statutory duties to regulate satellite communications in the public interest; namely, to ensure that prospective providers of SCS will operate in compliance with the applicable regulatory framework. The Commission will use this information to assess applicants' qualifications, and to conclude whether, and under what conditions, grant of an authorization to provide SCS will serve the public interest. This collection will thereby enable the Commission to monitor and enforce the entry criteria that SCS providers must satisfy, and which are designed to minimize the possibility of harmful interference.

Finally, the collection will play a critical role in the Commission's effort to review and track leasing arrangements that will result in entities providing SCS.

Federal Communications Commission.
Marlene Dortch,
Secretary, Office of the Secretary.

[FR Doc. 2024-14480 Filed 6-28-24; 8:45 am]

BILLING CODE 6712-01-P